DEPARTMENT OF COMMERCE

National Oceanic and Atmospheric Administration

RIN 0648-XA390

Pacific Fishery Management Council; Public Meeting

AGENCY: National Marine Fisheries Service (NMFS), National Oceanic and Atmospheric Administration (NOAA), Commerce.

ACTION: Notice of public meeting.

SUMMARY: The Pacific Fishery Management Council (Pacific Council) will hold a meeting, via conference call, of the Groundfish Management Team (GMT). The meeting is open to the public.

DATES: The conference call will be held Tuesday, May 10, 2011, from 9 a.m. to 12 p.m. Pacific Time.

ADDRESSES: A listening station will be available at the Pacific Council offices. Please contact the Pacific Council Staff Officer for accommodations.

FOR FURTHER INFORMATION CONTACT: Kelly Ames, Staff Officer; telephone: (503) 820-2280.

SUPPLEMENTARY INFORMATION: The Pacific Fishery Management Council (Council) will convene a conference call of the Groundfish Management Team to review the developing Ecosystem Fishery Management Plan. The GMT will discuss reports of the Ecosystem Plan Development Team and will develop statements for Council consideration at its June meeting in Spokane, WA.

Special Accommodations

This meeting is physically accessible to people with disabilities. Requests for sign language interpretation or other auxiliary aids should be directed to Ms. Carolyn Porter at (503) 820-2280 at least 5 days prior to the meeting date.

Dated: April 19, 2011.
Tracey L. Thompson,
Acting Director, Office of Sustainable Fisheries, National Marine Fisheries Service.

[FR Doc. 2011-9804 Filed 4-21-11; 8:45 am]

BILLING CODE 3510-22-P